DEPARTMENT OF THE INTERIOR

Bureau of Land Management

[WYW 71725]

Public Land Order No. 7758; Revocation of Secretarial Order Dated March 7, 1932; Wyoming

AGENCY: Bureau of Land Management, Interior.

ACTION: Public land order.

SUMMARY: This order revokes a Secretarial Order in its entirety as it affects the remaining 27,825 acres of National Forest System lands withdrawn for the Bureau of Reclamation's Willow and Fremont Lakes Reservoir Sites, Sublette Project. The lands are no longer needed for reclamation purposes.

DATES: Effective Date: January 11, 2011.

FOR FURTHER INFORMATION CONTACT: Janelle Wrigley, BLM Wyoming State Office, 5353 North Yellowstone Road, Cheyenne, Wyoming 82003, 307-775-6257.

SUPPLEMENTARY INFORMATION: The Sublette Project was never constructed and the withdrawal is no longer needed. The lands will not be opened to the public land or mining laws until completion of an analysis to determine if any of the lands warrant special designation. The March 7, 1932 Order originally withdrew approximately 29,600 acres but has since been partially revoked. A copy of the original withdrawal order containing a legal description of the lands involved is available from the Bureau of Land Management Wyoming State Office at the address above.

Order

By virtue of the authority vested in the Secretary of the Interior by Section 204 of the Federal Land Policy and Management Act of 1976, 43 U.S.C. 1714, it is ordered as follows:

The Secretarial Order dated March 7, 1932, which originally withdrew approximately 29,600 acres National Forest System lands in Sublette County, Wyoming, for the Bureau of Reclamation's Willow and Fremont Lakes Sites, Sublette Project, is hereby revoked in its entirety as to any remaining withdrawn lands.

Authority: 43 CFR 2370; 43 CFR 2310.3-3.

Dated: December 21, 2010.
Wilma A. Lewis,
Assistant Secretary—Land and Minerals Management.

[FR Doc. 2011-318 Filed 1-10-11; 8:45 am]

BILLING CODE 4310-MN-P